DEPARTMENT OF DEFENSE

Department of the Army

Notice of Availability of the Proposed Army Alternate Procedures Regarding the Protection of Army Historic Properties and Environmental Assessment/Finding of No Significant Impact for the Adoption of the Army Alternate Procedures

AGENCY: Department of the Army, DoD.

ACTION: Notice of availability.

SUMMARY: This announces the availability of the Army Alternate Procedures (AAP) to 36 CFR Part 800: Protection of Army Historic Properties and Environmental Assessment (EA)/Finding of No Significant Impact (FNSI) for the adoption of the AAP. The Army intends to sign the FONSI unless public comments identify significant impacts or issues that have not been considered. The AAP is an optional procedure that an installation may choose to adopt to satisfy compliance with Section 106 of the National Historic Preservation Act (NHPA) in lieu of the existing regulations set forth in the Advisory Council on Historic Preservation's (Council) regulations at 36 CFR Part 800. The Army and the Council have consulted extensively with State Historic Preservation Officers, Indian tribes and Native Hawaiian organizations, and the National Trust for Historic Preservation throughout the development of the AAP. The EA gives full consideration and adoption of alternate procedures as the proposed action, and two reasonable alternatives to the proposed action.

DATES: Submit comments on or before June 22, 2001.

ADDRESSES: To obtain copies of the proposed AAP, the EA, and FONSI, contact the U.S. Army Environmental Center, ATTN: SFIM-AEC-PA (Joe Ricci), Aberdeen Proving Ground, MD 21010-5401.

FOR FURTHER INFORMATION CONTACT: Mr. Chuck Wright at (703) 693-0675.

SUPPLEMENTARY INFORMATION: The proposed action is the adoption of the proposed AAP for compliance with Section 106 of the NHPA and for comprehensive management and preservation of historic properties on lands owned or controlled by the Department of the Army. The AAP, once adopted, would stand in place of the project-by-project review procedures set forth in 36 CFR Part 800. The AAP's build upon and rely on the internal policy requirement for installations to prepare Integrated Cultural Resource Management Plans in accordance with Army Regulation 200-4, Cultural Resources Management, as implemented by more detailed guidance in Department of the Army Pamphlet 200-4. The AAP's would authorize Army installation commanders to develop Historic Property Components (HPC) to the installation's Integrated Cultural Resources Management Plan (ICRMP). Once certified by the Council, the HPC would serve as the installation's Section 106 compliance agreement for a five (5) year period. The installation's Section 106 compliance responsibilities would be met through implementation of the HPC rather than case-by-case, formalized, external review of individual undertakings as presently required by 36 CFR Part 800. Installations choosing not to develop certified HPC's would continue to review undertakings in accordance with 36 CFR Part 800.

The EA considered, evaluated and assessed alternatives: (a) The No Action Alternative (continued project-by-project review under 36 CFR Part 800); (b) The Programmatic Agreement (PA) Alternative (adoption of an agency policy encouraging the use of PA's under existing regulations to implement the historic preservation portions of an installation's ICRMP); and (c) the proposed action alternative (adoption of the AAP's). Consideration of the alternatives analyzed in the EA leads to the Army's decision to adopt the AAP's. The No Action Alternative would allow a continued ad-hoc approach to compliance with Section 106 and management of historic properties. With the anticipated growth in the Army's historic properties inventory, continued review of undertakings on a case-by-case basis will likely remain inefficient and lead to increased program costs. The PA Alternative better meets the stated purpose and need since it would provide a programmatic basis for Section 106 compliance, relying on an installation's ICRMP. The Army's past experience with PA's, however, is that they have not been effective in resolving adverse effects, and, generally result in reversion to case-by-case, formalized, external review when such effects are identified. The proposed action (i.e., AAP's) more squarely meets the stated purpose and need for action. The AAP's) more squarely meets the stated purpose and need for action. The AAP's build on the present management approach established by Army Regulation 200-4 and leverage the existing Army historic properties management policy, programs and participants. Management in this manner will facilitate overall Army compliance with Section 106; and, will otherwise provide the agency with the ability to act as a more responsible steward for historic properties entrusted to its care.

Copies of the AAP, EA and FONSI can also be found on the Council's web site at www.achp.gov/army.html.

Dated: May 17, 2001.
Raymond J. Fatz,
Deputy Assistant Secretary of the Army, (Environment, Safety, and Occupational Health) OASA(I&E).

[FR Doc. 01-13008 Filed 5-22-01; 8:45 am]

BILLING CODE 3710-08-M